ENVIRONMENTAL PROTECTION AGENCY

[FRL-6848-2]

Petition for Secondary National Ambient Air Quality Standards for Nitrogen Dioxide, Sulfur Dioxide, and Fine Particulate Matter and Related Request

AGENCY: Environmental Protection Agency (EPA).

ACTION: Notice.

SUMMARY: The EPA is announcing receipt of a petition for rulemaking under section 109 of the Clean Air Act (CAA), to promulgate revised secondary national ambient air quality standards (NAAQS) for pollutants associated with the formation of acid rain, including nitrogen dioxide (NO2), sulfur dioxide (SO2), and fine particulate matter (PM2.5). The petition was submitted by representatives of the States of New York, Massachusetts, Maine, New Hampshire, Connecticut, Rhode Island, and Vermont in a letter to the EPA Administrator, dated October 26, 1999. In that letter, the States request EPA to address what they assert to be a wide range of adverse environmental effects associated with these pollutants through the mechanism of revised secondary NAAQS. In addition, EPA has received a related request from the U.S. Department of the Interior (DOI) in a letter to the EPA Administrator, dated July 19, 2000, to address many of the same adverse environmental effects associated with the same types of air pollutants, and with ozone (O3) that DOI asserts are occurring in national parks and wilderness areas.

To consider and respond to this petition and related request properly, EPA plans to review relevant scientific information, and to consult with the public and potentially affected stakeholders to ensure that decisions in response to these requests are based on the best available information.

DATES: Comments and associated information and analyses should be submitted on or before December 7, 2000.

ADDRESSES: You may comment in various ways:

On paper. Send paper comments (in duplicate, if possible) to the Air and Radiation Docket and Information Center (6102), Attention Docket No. A-2000-36, U.S. Environmental Protection Agency, 1200 Pennsylvania Ave., NW, Washington, DC 20460.

Electronically. Send electronic comments to EPA at: A-and-R-Docket@epa.gov. We accept comments as e-mail attachments or on disk. Either way, they must be in WordPerfect 5.1, 6.0, Corel 8, or ASCII file format. Avoid the use of special characters and any form of encryption. Be sure to identify all comments by Docket No. A-2000-36.

Public Inspection. Docket No. A-2000-36 containing the letters and related information is available for public inspection and copying between 8:00 a.m. and 5:30 p.m., Monday through Friday, excluding legal holidays at the Air and Radiation Docket and Information Center (6102), 401 M Street, SW, Room M-1500, Washington, DC 20460, phone 202-260-7548, fax 202-260-4400. A reasonable fee for copying may be charged.

FOR FURTHER INFORMATION CONTACT: Vicki Sandiford, MD-15, Air Quality Strategies and Standards Division, Office of Air Quality Planning and Standards, U.S. Environmental Protection Agency, Research Triangle Park, NC 27711, telephone (919) 541-2629, e-mail: sandiford.vicki@epa.gov; or Geoffrey L. Wilcox, Mail Code 2344A, Office of General Counsel, U.S. Environmental Protection Agency, Washington, D.C. 20460, telephone (202) 564-5601, e-mail: wilcox.geoffrey@epa.gov.

SUPPLEMENTARY INFORMATION:

Availability of Related Information

Two of the documents specifically cited in the States' petition can be obtained by ordering them from the following organizations:

(1) Nitrogen Oxides: Impacts on Public Health and the Environment. 1997. (EPA452/R-97-002). Order by contacting U.S. EPA Region 3 Chesapeake Bay Program Office, 410 Severn Avenue, Suite 109, Annapolis, MD 21403; phone (800) 968-7229 or (800) 553-6847; fax (410) 267-5777. This document can also be ordered online by going to http://www.epa.gov/ncepihom/orderpub.html and filling out the order form online.

(2) Introduction to Visibility. 1999. W. Malm (CSU, ISSN 0737-5352-40).

Contact the Cooperative Institute for Resources in the Atmosphere (CIRA) at (970) 491-8292.

Electronic Availability

In addition to accessing the States' petition and the DOI request through the EPA docket as indicated above, these letters are available online through the Agency's Office of Air Quality Planning and Standards (OAQPS) Technology Transfer Network (TTN) under the technical area of “Office of Air and Radiation Policy and Guidance” (OAR P&G), and under the heading of “General Documents” (see the following e-mail address: http://www.epa.gov/ttn/oarpg/gener.html). To access the document from the World Wide Web, click on www.epa.gov/ttn/ which connects you to the “TTNWeb,” then proceed to the “TTN Technical Areas,” as described above. If assistance is needed in accessing the system, call the help desk at (919) 541-5384 in Research Triangle Park, NC.

Other documents cited in the States' petition can also be accessed and downloaded from the following web addresses:

(1) The 1998 Acid Rain Action Plan of the Northeastern Governors and Eastern Canadian Premiers. http://www.cmp.ca/neg/reports/acid-e.htm

(2) National Acid Precipitation Assessment Program (NAPAP) Biennial Report To Congress: An Integrated Assessment. May, 1998. (Requires Adobe Acrobat to view individual chapters) http://www.nnic.noaa.gov/CENR/NAPAP/NAPAP_96.htm

(3) Clean Water Action Plan: Restoring and Protecting America's Waters. 1998. http://www.cleanwater.gov/action/toc.html

(4) Federal Register Proposal and Final Notices for NO2, SO2, PM, and O3 National Ambient Air Quality Standards. http://www.epa.gov/ttn/oarpg/t1pfpr.html

(5) Acid Rain: Current and Projected Status of Coldwater Fish Communities in the U.S. in the Context of Continued Acid Deposition. 1998. (After accessing the following site, scroll down the list of headings until you see Acid Rain Report. Click on it and Adobe Acrobat will automatically begin to open, which you will need to read this document). http://www.tu.org/library/conservation.html.

Additional general information on acid rain and visibility is available at the following EPA web addresses: http://www.epa.gov/acidrain/ardhome.html and http://www.epa.gov/oar/vis/. Relevant reports available at these web addresses include, for example, the EPA's 1998 Acid Deposition Standard Feasibility Report to Congress, and Acid Deposition: the Ecological Response (Ecological Society of America, Workshop Report of 1999).

Background

The establishment, review, and revision of NAAQS are governed by two sections of the CAA. Section 108 (42 U.S.C. 7408) directs the Administrator to identify certain pollutants which “may reasonably be anticipated to endanger public health and welfare” and to issue “air quality criteria” for them. These air quality criteria are to “accurately reflect the latest scientific knowledge useful in indicating the kind and extent of all identifiable effects on public health or welfare which may be expected from the presence of [a] pollutant in the ambient air * * *.”

Section 109 of the CAA (42 U.S.C. 7409) directs the Administrator to propose and promulgate “primary” and “secondary” NAAQS for pollutants identified under section 108 of the CAA. Section 109(b)(2) of the CAA defines a secondary NAAQS as one, “the attainment and maintenance of which, in the judgment of the Administrator, based on [the section 108] criteria, is requisite to protect the public welfare from any known or anticipated adverse effects associated with the presence of such air pollutant in the ambient air.” Welfare effects as defined in section 302(h) of the CAA (42 U.S.C. 7602(h)) include, but are not limited to, “effects on soils, water, crops, vegetation, manmade materials, animals, wildlife, weather, visibility, and climate, damage to and deterioration of property, and hazards to transportation, as well as effects on economic values and on personal comfort and well-being, whether caused by transformation, conversion or combination with other pollutants.”

Section 109(d)(1) of the CAA requires periodic review and, as appropriate, revision of existing air quality criteria and NAAQS. The EPA's most recent decisions following the review of air quality criteria and the existing secondary standards for NO2, SO2, PM, and O3 were published in the Federal Register on October 8, 1996 (61 FR 52852), April 21, 1993 (58 FR 21351), and July 18, 1997 (62 FR 38652 and 62 FR 38856), respectively. Information concerning the welfare effects of these pollutants and the rationales for EPA's decisions as to revision of the existing secondary standards at those times can be found in those notices, as well as in the notices of proposed rulemaking which preceded EPA's final decisions.

Summary of Northeast States' Petition

Representatives of the States of New York, Massachusetts, Maine, New Hampshire, Connecticut, Rhode Island, and Vermont submitted a petition to the EPA Administrator, dated October 26, 1999, pursuant to the Administrative Procedures Act, 5 U.S.C. § 553(e), requesting that EPA commence rulemaking to promulgate revised secondary NAAQS. The petitioners suggest that the acid rain provisions in title IV of the CAA do not go far enough to ensure full recovery of sensitive ecosystems. The petitioners cite several recent Federal studies in support of their assertions that effects are occurring which are adverse to the public welfare, and that these effects result from pollutants associated with acid rain, including NO2, SO2, and PM2.5. More specifically, the petitioners assert that reports such as the National Acid Precipitation Assessment Program's (NAPAP) Biennial Report to Congress: An Integrated Assessment and Nitrogen Oxides: Impacts on Public Health and the Environment (EPA452/R-97-002) document continued and increasing damage caused by acid deposition to the lakes and forests in the Northeastern States and other parts of the nation, as well as other environmental effects (e.g., visibility impairment, eutrophication of coastal estuaries, damage to vegetation from tropospheric ozone and the depletion of stratospheric ozone) associated with these pollutants and their transformation products. Moreover, the petitioners assert that damage is sufficiently serious and widespread to be considered national in scope, such that revised secondary NAAQS are an appropriate approach for addressing such effects.

Related Request From DOI

The DOI has requested in a letter to the EPA Administrator, dated July 19, 2000, that EPA initiate rulemaking within its various authorities under the CAA that would provide appropriate regulatory mechanisms by which states could require protection of air quality related values (AQRVs) in Federal Class I areas (i.e., national parks and wilderness areas) from both new and existing sources of air pollution. More specifically, the DOI asks that EPA consider the use of the provisions of the CAA dealing with prevention of significant deterioration (PSD) to promulgate a general rule that would require affected States to revise their State implementation plans (SIPs) to remedy existing, and prevent future, adverse AQRV impacts. The DOI letter asserts that AQRVs are being adversely affected by air pollution at numerous national parks and wilderness areas, with effects at various locations including acidification of streams, surface waters, and/or soils; eutrophication of coastal water; visibility impairment; and foliar injury to vegetation. The DOI acknowledged that revised secondary NAAQS might be one approach to help mitigate the effects of concern to Federal land managers responsible for protection of AQRVs in Class I areas, but proposes that EPA also consider using the PSD provisions, as well as other approaches identified in its letter that could provide some protection in the short-term, before more general rulemaking can be promulgated, to address localized impacts specific to Class I areas.

Solicitation of Comments and Information

The Administrative Procedure Act (APA) does not require EPA to provide notice and solicit public comment before deciding upon its response to petitions or other requests for rulemaking. Nonetheless, EPA has decided in this instance to solicit public comment and additional information and analyses relevant to the issues raised by these requests. The EPA is particularly interested in receiving comments and information regarding: (1) Any ongoing or planned research that will become available in the peer-reviewed literature in the near future on the welfare effects of the pollutants noted in the letters and their atmospheric transformation products, or on environmental responses to existing emission control programs; (2) the scope and magnitude of the impact on the environment of welfare effects associated with these pollutants and their atmospheric transformation products; (3) the variability in geographic impacts, frequency, timing, seasonal implications, severity, and extent of the effects and differences in site characteristics where those effects occur; and (4) various alternative approaches and mechanisms that may be suitable for addressing these effects consistent with EPA's authority under the CAA. The EPA will consider any relevant comments and information submitted in response to this notice, together with information provided by the petitioners and the DOI and information in the existing records cited in today's notice, before making any decision concerning a response to these requests for rulemaking. If EPA decides to respond to the States' petition or DOI's request by commencing rulemaking under the CAA, we will publish a notice of proposed rulemaking in the Federal Register, providing further opportunity for public review and comment before adopting any final rules.

Dated: July 24, 2000.
John S. Seitz,
Director, Office of Air Quality Planning and Standards.

[FR Doc. 00-20121 Filed 8-8-00; 8:45 am]

BILLING CODE 6560-50-P